DEPARTMENT OF ENERGY

Federal Energy Regulatory Commission

[Project Nos. 11674-004, 11681-004, 11686-004, 11718-004 11720-004, 11780-004, 11819-004, 11825-004]

Universal Electric Power Corporation; Notice of Surrender of Preliminary Permits

February 6, 2002.

Take notice that Universal Electric Power Corporation, permittee for the projects listed below, has requested to surrender the preliminary permits because the proposed projects no longer meet its investment criteria.

Project No. | Project name | Stream | State | Expiration date
11674-004 | Berlin Dam | Mahoning River | OH | 05-31-2002
11681-004 | Whitney Point Dam | Otselic River | NY | 06-30-2002
11686-004 | Mosquito Creek Dam | Mosquito Creek | OH | 05-31-2002
11718-004 | Patoka Lake Dam | Patoka River | IA | 07-31-2002
11720-004 | Cecil M. Hardin Dam | Raccoon River | IA | 03-31-2002
11780-004 | Pleasant Hill Dam | Mohican River | OH | 09-30-2002
11819-004 | Chouteau Lock & Dam | Verdigris River | OK | 08-31-2002
11825-004 | Newt Graham Lock & Dam | Verdigris River | OK | 02-28-2003

The permittee filed the request on December 31, 2001, and the eight preliminary permits shall remain in effect through the thirtieth day after issuance of this notice unless that day is Saturday, Sunday, or holiday as described in 18 CFR 385.2007, in which case each permit shall remain in effect through the first business day following that day. New applications involving these project sites, to the extent provided for under 18 CFR part 4, may be filed on the next business day.

Magalie R. Salas,
Secretary.

[FR Doc. 02-3331 Filed 2-11-02; 8:45 am]

BILLING CODE 6717-01-P